DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with January anniversary dates. In accordance with the Department's regulations, we are initiating those administrative reviews.

DATES: Effective Date: February 28, 2013.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with January anniversary dates. With respect to the antidumping duty order on Wooden Bedroom Furniture from the People's Republic of China, the initiation of the antidumping duty adminstrative review for that case is being published in a separate initiation notice.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not-collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than January 31, 2014.

³ In the initiation notice that published on January 30, 2013 (78 FR 6291) the Department listed the incorrect case number for Certain Cased Pencil from PRC. The correct case number is listed above.

⁴ This company was inadvertently omitted from the initiation notice that published on January 30, 2013 (78 FR 6291).

| Period to be reviewed
Antidumping Duty Proceedings
The People's Republic of China: Certain Cased Pencils,³ A-570-827 | 12/1/11-11/30/12
The People's Republic of China: Multilayered Wood Flooring,⁴ A-570-970 | 5/26/11-11/30/12
Nakahiro Jyou Sei Furniture (Dalian) Co. Ltd
Countervailing Duty Proceedings
The People's Repubic of China: Certain Oil Country Tubular Goods, C-570-944 | 1/1/12-12/31/12
1st Huabei OCTG Machinery Co., Ltd
Adler Steel Limited
Adler Steel Limited Tianjin
China c/o Adler Steel Limited
Angang New Steel Co., Ltd
Angang Steel Co., Ltd
Anhui Tianda Oil Pipe Co. Ltd. and Anhui Tianda Enterprise (Group) Co. Ltd
Anshan Xin Yin Hong Petroleum and Gas Tubular Co
Anshan Zhongyou TIPO Pipe & Tubing Co., Ltd
Anton Oilfield Services (Group) Ltd
Anton Tongao Technology Industry Co. Ltd
Anyang Iron & Steel Group Ltd.—Seamless
Aofei Tele Dongying Import & Export Co., Ltd
Baoji Petroleum Steel Pipe and Tube Works
Baoji-Sumitomo Metal Industries (SMI) Petroleum Steel Pipe, Co. Ltd. (BSG)
Baolai Steel Pipe and Tianjin
Baolai International Trade Co., Ltd
Baoshan Iron & Steel Co. Ltd
Precision Steel Tube Factory
Baoshan Iron & Steel Co. Ltd
Shanghai Baosteel Group Corporation and Steel Tubing Plant of Baosteel Branch
Baosteel America Inc
Baosteel Group Shanghai Steel Tube
Baosteel International (Shanghai Baosteel International Economic & Trading Co., Ltd.)
Baotou Found Petroleum Machinery Co. Ltd
Baotou Iron & Steel (Group) Co., Ltd
Bazhou Hongyuan Petroleum Equipment Materials Co., Ltd
Bazhou Seamless Oil Pipe Co., Ltd
Bazhou Zhuofa Steel Pipe Co., Ltd
Beijing Bell Plumbing Manufacturing Ltd
Beijing Changxing Kaida Composite Material Development Co., Ltd
Beijing Jinghua Global Trading Co., Ltd
Beijing Shouhang Science-Technology Development Company
Beijing Youlu Co., Ltd
Beijing Zhongyou TIPO Material & Equipment Co., Ltd
Beiman Special Steel Co., Ltd
Benxi Northern Steel Pipe Co., Ltd
Bohai Equipment New Century Machinery Manufacturing Co., Ltd
Cangzhou City Baohai Petroleum Material Co., Ltd
Cangzhou City Shengdali Machinery Manufacture Co., Ltd
Cangzhou OCTG Company Limited of Huabei Oilfield
Cangzhou Qiancheng Steel Pipe Co., Ltd
Cangzhou Ruitai Petroleum Machinery Co., Ltd
Cangzhou Xinxing Seamless Steel pipe Co., Ltd
Changshu Chengfeng Machinery Manufacturing Co., Ltd
Changshu Lijia Import and Export Co
Changshu Seamless Steel Tube Co., Ltd
Changzhou Bao-Steel Tube Limited-Liability Co
Changzhou Darun Steel Tube Co., Ltd
Changzhou Haitong Petroleum Tube Co., Ltd
Changzhou Heji Engineering Machinery Co., Ltd
Changzhou Heyuan Steel Pipe Company
Changzhou Hong Ping Material Supply Co., Ltd
Changzhou Huixiang Petroleum Machinery Co., Ltd
Changzhou Jianzhou Machinery Co., Ltd
Changzhou Shengde Seamless Pipe Co., Ltd
Changzhou Steel Pipe Factory
ChangZhou TaoBang PetroleumTube Co., Ltd
Changzhou Tianda Petroleum Pipe Co., Ltd
Changzhou Tong Xing Steel Tube Co., Ltd
Changzhou Tongchuang Tube Industy Co., Ltd
Changzhou Wujin Furong Aluminum Alloy Profile Factory
Changzhou Yuanyang Steel Tube Co., Ltd
Chengde Longcheng Steel Pipe Manufacturing Co., Ltd
Chengdu Heyi Steel Tube Industrial Co., Ltd
Chengdu Wanghui Petroleum Pipe Co. Ltd
Chengdu Zhongyuan Zongji Petroleum Equipment Co., Ltd
China East Resources Import & Export Co., Ltd
China Hebei Xinyuantai Steel Pipe Co
China Oilfield Services Limited
Chongqing Petroleum Special Pipeline Factory of CNPC
Sichuan Petroleum Goods & Material Supply Corp
Chu Kong Steel Pipe Group Co
Chuanna Machinery Manufacturing Plant
Cloudstone Metal International Limited
CNOOC Energy Technology & Services—Pipe Engineering Co
CNOOC Kingland Pipeline Co., Ltd
CNPC Chuanqing Drilling Engineering Co., Ltd./changquing Downhold Technology Operation Co
CNPC Chuangquing Drilling Engineering Co., Ltd./Changqing General Drilling Company
CNP GWDC Drilling Tools Company
CORPAC Steel Products, Corp
Da An Heng Rui Productions Enquipment Co., Ltd
Da Qing Jing Tai mechanical Manufacturing Co., Ltd
Da'an Petroleum Accessories Factory
DADI Petroleum Machinery Co., Ltd. of Inner Mongolia First Machinery Group Co., Ltd
Dagang Oilfield Group New Century Machinery Manufacturing Co., Ltd
Dalipal Pipe Company
Daqing High-Tech Zone Hua Rui Ke Pipe Manufacturing Co
DaQing Ocean Petroleum Technology Development Co., Ltd
Daqing Petroleum Equipment Group
Daqing Powerlift Petro-Equipment Group
Daqing Seamless Oil Pipe Co., Ltd
Daqing Wanke Oilfield Equipment Manufacturing Co., Ltd
Daquing Powerlift Petro-equipment Group
Daye Xinye Special Steel Company Limited
De Zhou Guang Hua Petroleum Machinery Company Limited
De Zhou United Petroleum Machinery Company Limited
De Zhou Zhong Xing Petroleum Machinery Co., Ltd
Dexin Steel Tube (China) Co., Ltd
Dezhou Great Wall Petroleum Machinery Co., Ltd
Dezhou Hortzon Oil Tools Co., Ltd
Dezhou Longke Petroleum Equipment Co., Ltd
Dingbian County Huayou Trading Company Limited
Dong Ying East Petroleum Pipe Co., Ltd
Dongying City Jinyilai Petroleum Machinery Co., Ltd
Dongying City Meiyang Petroleum Pipe & Fitting Co., Ltd
Dongying City Paipu Petroleum Pipe Fittings Co., Ltd
Dongying City YongLiJingGong Petroleum Machinery Manufacturing Co., Ltd
Dongying Heli Petroleum Machinery Company Limited
Dongying Rui'ao Industrial Trading Co., Ltd
Dongying Tianlin Petroleum Equipment Co., Ltd
Dongying Tianrui Petroleum Science & Technology Co., Ltd
DP-Master Manufacturing Co., Ltd
DRK Oil Tools, Co., Ltd
Engineering Service Company of Great Wall Drilling Engineering Ltd. of China Petroleum Group
Etco (China) International Trading Co., Ltd
Faray Petroleum Steel Pipe Co., Ltd
Field Construction Bohai Equipment Services
First Machinery Works of North China Petroleum
Freet Petroleum Equipment Co. Ltd. of Shengli Oil Field The Thermal Recovery, Zibo Branch
Gaoyou Huaxing Petroleum Pipe Manufacturing Co., Ltd
Ge Steel Resource Ltd
General Machinery Factory of Jilin Petroleum Group Co., Ltd
General Machinery Plant of Shengli Petroleum Adminstration (Shengli Oil Field Shengli Petroleum Equipment Co., Ltd.)
Guangzhou Hongda Steel Tube
Guangzhou Iron and Steel
Guangzhou Junjia Steel Tube Manufacturer Co., Ltd
Guangzhou Juyi Steel Pipes Company Limited
Guangzheng Branch of Tangshan Jidong Petroleum Machinery Company, Ltd
Haerbin City Weilian Mechanical Manufacturing Company Limited
Haicheng Northern Steel Pipe Anti-Corrosion Company Limited Haicheng Northern Steel Pipe Co. and Haicheng Beigang Pipe Group
Handan Precise Seamless Steel Pipes Co., Ltd
Hangzhou Cogeneration Import & Export Company Limited
Hangzhou Zhedong Steel Tube Products Co., Ltd
Hao Ying Qiqihaer in Northeast Special Steel Co., Ltd
Hebei ChangFeng Steel Tube Manufacture Group
Hebei Dingsheng Pipe Industry Co., Ltd
Hebei Hongling Seamless Steel Pipes Manufacturing Co., Ltd
Hebei Huike Steel Pipe Co., Ltd
Hebei Litonglian Seamless Steel Pipe
Hebei Machinery Import and Export Co., Ltd
Hebei Puyang Iron and Steel Company Limited
Hebei Tiandixing Pipeline Co., Ltd
Hebei Xinlian Petroleum Machinery Company Limited
Hebei Xinyuantai Steel Pipe Co., Ltd
Hebei Yaosheng Petroleum Special Pipe Co., Ltd
Hebei Yi Xin Petroleum Pipe Company Limited
Hebei Zewo Steel Pipe Manufacturing Co., Ltd
Hebei Zhong Kuang Steel Pipe Manufacturing Co., Ltd
Hebei Zhongyuan Steel Pipe Manufacturing Co., Ltd. and Zhongyuan Pipeline Manufacturing Co., Ltd
Hefei Ziking Steel Pipe Inc
Heilongjiang Jianlong Iron and Steel Co., Ltd
Heilongjiang North Shuangjia Drilling Tools Co., Ltd
Henan Dongfanlong Machine Manufacture Co., Ltd
Henan Huifeng Pipe Industry Co., Ltd
Henan Nanyang Oilfield Machinery Manufacturing Company Limited
Henan Province LiDa Petroleum Pipe Drilling Tools Co., Ltd
Henan Zyzj Petroleum Equipment Co., Ltd
Hengshui Jinghua Steel Pipe Co., Ltd
Hengshui Weijia Petroleum Equipment Manufacture Co., Ltd
Hengyang Hongda Special Steel Tube Co., Ltd
Hengyang Steel Tube (Group) Co., Ltd
Hengyang Valin Steel Tube Co. Ltd. and Hengyang Valin MPM Tube Co., Ltd
HG Tubulars Limited
Highgrade Tubular Manufacturing (Tianjin) Co., Ltd
HillHead
Hilong Tubular Goods Co., Ltd
HSC (Chengdu) Seamless Steel Pipe Co., Ltd
Hsea Steel Trading Co., Ltd
Huai'an Zhenda Steel Tube Manufacturing Co., Ltd
Hubei OCTG Machinery Co. (First)
Hubei Xinyegang Co., Ltd
Hubei Xinyegang Special Tube Co., Ltd
Hubei Zhongshi Special Steel Tubes Co., Ltd
Huizhou Dingjia Trade Co., Ltd
Huludao City Steel Pipe Industrial Co
Huludao Steel Pipe Industrial Co., Ltd
Hunting Energy Services (Wuxi) Co., Ltd
Jiangsu Benqiu Pipe Products Co
Jiangsu Changbao Steel Tube Co., Ltd and Jiangsu Changbao Precision Tube Co.Ltd
Jiangsu Chengde Steel Tube Share Co., Ltd
Jiangsu Dingxing Petroleum Machinery Co., Ltd
Jiangsu Fanli Steel Pipe Co
Jiangsu Huacheng Industry Group Co., Ltd
Jiangsu Huashun Steel Pipe Co., Ltd
Jiangsu Kailai Steel Tube Co., Ltd
Jiangsu Li'Ao Steel Tube Company Limited
Jiangsu Rontech Petroleum Technology Incorporated Company
Jiangsu Shined Petroleum Equipment Manufacturing Company Limited
Jiangsu Shuguang Oil Tools Limited
Jiangsu Sujia Group Co., Ltd
Jiangsu Tenglong Petrochemical Machinery Co., Ltd
Jiangsu Tianyuan Steel Tube Co., Ltd
Jiangsu Valin-Xigang Special Steel Co., Ltd
Jiangsu Wuxi Steel Group
Jiangsu Yulong Steel Pipe Co., Ltd
Jiangsu ZhenDa Steel Tube Group Co., Ltd
Jiangsu Zhongye Energy Equipment Manufacture Co., Ltd
Jiangyin Changjiang Oil Special Pipe Manufacture Co., Ltd
Jiangyin Chuangxin Oil Pipe
Jiangyin City Changjiang Steel Pipe Co., Ltd
Jiangyin City Seamless Steel Tube Factory
Jiangyin Hengyang Petroleum Machinery Company Limited
Jiangyin Jieda Shaped Tube Co., Ltd
Jiangyin Jieshun Metal Science & Technology Co., Ltd
Jiangyin Long-Bright Drill Pipe Manufacture Co., Ltd
Jiangyin Yashen Petroleum Pipe Co., Ltd
Jiangyin Yueyue Chao Steel Pipe Manufacture Co., Ltd
Jiangyin Yuhao Petroleum Pipe Co., Ltd
Jianhu Lichange Valve Co., Ltd
Jilin Baotong Petroleum Steel Pipe Company Limited
Jilin Qianyuan Steel Pipe Co., Ltd
Jilin Sky Loong Industry Co., Ltd
Jinan Iron and Steel Company Jigang Group Co., Ltd
Jinxi Industry Group Co., Ltd
Jinxi Steel Pipe Co., Ltd. of Lingyuan Iron and Steel Group
Jinxi Steel Pipe Xinjiang Co., Ltd
Jiquan Iron and Steel Group (JISCO)
Julong Steel Pipe Co., Ltd
Laiwu Iron and Steel Corporation
Langfang OTSMAN Special Petroleum Pipe Manufacture Company Limited
Liangshan Steel Pipe Company Limited
Liaoche Thermal Recovery Machinery Branch of CNPC Bohai Equipment Manufacturing Co., Ltd
Liaocheng Jialong Tube Manufacture Company Limited
Liaocheng Jingxin Seamless Steel Pipe Manufacturing Co., Ltd
Liaocheng Xinpengyuan Metal Manufacture Co., Ltd
Liaocheng Dongyu Oil Tubular Goods Company, Ltd
Liaoning Foo May Oilfield Services Co., Ltd
Liaoning Large-scale Steel Pipe Co., Ltd
Liaoning Northern Steel Pipe Co., Ltd
Liaoning Shen Yu Oil Pipe Manufacture Company Limited
Liaoyang Seamless Oil Pipe Co., Ltd
Linggang Beipiao Steel Pipe Co., Ltd
Lingyuan Iron & Steel Company Limited
Linyi Jinzhengyang Seamless Steel Pipe Co., Ltd
Linyi Sanyuan Steel Pipe Industry Company Limited
Linyi Yinlong Steel Tube Co., Ltd
Linzhou Fengbao Pipe Industry Co., Ltd
Liuzhou Iron and Steel
M&M Steel Pipe Co., Ltd
Machinery Factory of Jilin Petroleum Group Co., Ltd
Machinery Factory of Tuha Petroleum
MCC Liaoning Dragon Pipe Industries Company Limited
Mechanical Factory of CNPC Qinghai Oilfield Company
Meihekou City Hongye Seamless Steel Pipe Co., Ltd
Mercadex B.V
MSP/Drilex, Inc
Nantong Hengte Tube Co., Ltd
Nantong Petroleum Machine Manufacturing Co., Ltd
Nantong Yongda Pipe Industry Incorporated Company
Nengyang Hongling Petroleum Pipe Co., Ltd
NHIC Antonoil Machinery Manufacturing Co., Ltd
Ning Xia D.M.S. OCTG Company Limited
Ningbo Hengfa Steel Tube Co., Ltd
Ningxia Daimus Petroleum Steel Pipe Co., Ltd., Tianjin Branch
Norms-ShenZhen HaiYou Mechanical Equipment Company
North China Petroleum Steel Pipe Co., Ltd
North China Petroleum Steel Pipe Co., Ltd. Yangzhou Subsidiary Company
Oilfield Services & Supplies (Tianjin) Co., Ltd
Pancheng Yihong Pipe Company Limited
Pangang Group Beihai Steel Pipe Corporation (PGBH)
Pangang Group Chengdu Iron & Steel Co., Ltd
Pangang Group Chengdu Steel & Vanadium Co., Ltd
Panjin ChangTai Petroleum Tubular Co., Ltd
Panjin Liaohe Oilfield Jinhuan Company Corporation Ltd
Panjin Renhe Pipe Co., Ltd
Panjin Xinhua Drilling Machinery Manufacture Co., Ltd
Panshi City Great Wall Mechanical Factory
Panyu Chu Kong Steel Pipe Co., Ltd
Petroleum Machinery Factory of Bohai Petroleum Manufacturing Co., Ltd
PetroMaterials (Cangzhou) Co., Ltd
Pipe and Tooling Center, Sinopec Southwest Company
Pipes & Tools of No. 2 Drilling Technical Company Of Da Qing CN
Precision Pipe Manufacturing Branch of Liaoning Tianyi Industry Company
PuYang BaoLiTong Petroleum Machinery Co., Ltd
Puyang City Huang Jin-Drilling Parts Processing Co., Ltd
Puyang City Shuangfa Industry
Puyang Heli Drilling Machinery Processing Co., Ltd
Puyang Xinyu Petro-chemical Machinery Co., Ltd
Puyang Zhongshi Group Co., Ltd
Qingdao Kehua Petroleum Machinery Co., Ltd
Qiqihaer Haoying Iron & Steel Co of Northeast Special
Rizhao Steel Holding Group Co., Ltd
RiZhao ZhongShun Steel Pipe Manufacture Company Limited
RongSheng Machinery Manufacture Ltd
Seamless Tube Mill of Baotou Steel Union
Shaanxi Jiabao Petroleum Machine Manufacture Co., Ltd
Shaanxi Qindong Tubular Goods Manufacturing Co., Ltd
Shaanxi Yanchang Petroleum Equipment Manufacturing Co., Ltd
Shaanxi Yanchang Petroleum Material Company
Shandong Continental Petroleum Equipment Co., Ltd
Shandong Dongbao Steel Pipe Co., Ltd
Shandong Dongying Liyuan Pipe Industry Group Co., Ltd
Shandong East China Petroleum Pipes & Drilling Tools Co., Ltd
Shandong East Oil Petroleum Equipment Co., Ltd
Shandong Huabao Steel Pipe Co., Ltd
Shandong Huitong Steel Tube Making Co., Ltd
Shandong Jialong Petroleum Pipe Manufacture Co., Ltd
Shandong Liaocheng Baotong Steel Tube Manufacture Co., Ltd
Shandong Liaocheng Shenhao Metal Product Co., Ltd
Shandong Liaocheng ZGL Metal Manufacturing Co., Ltd
Shandong Luhai Petroleum Equipment Co., Ltd
Shandong Luxing Steel Pipe Co., Ltd
Shandong Mingzhu Petroleum Equipment Co., Ltd
Shandong Molong Petroleum Machinery Co., Ltd
Shandong Nine-Ring Petroleum Machinery Co., Ltd
Shandong Province Coalfield Geologic Drilling Tools Factory
Shandong Province Jin Shun Steel Product Limited Company
Shandong Runhe Tube Industry Co., Ltd
Shandong Shengdong Oilfield Machinery Co., Ltd
Shandong Shengli Tongxing Petroleum Pipe Manufacture Co., Ltd
Shandong Shengyou Oil Drilling & Production Machinery Limited Company
Shandong Shouguang JuNeng Special Steel Co., Ltd
Shandong Taifeng Steel Industry Co., Ltd
Shandong Xinchi Steel Pipe Manufacture Co., Ltd
Shandong Xinji Yiming Machinery Co., Ltd
Shandong Zhao Yu Petroleum Pipe Manufacture Co., Ltd
Shandong Zhongli Steel Pipe Co., Ltd
Shandong Zhongye Petroleum Machinery Co., Ltd
ShanDong ZhongZheng Steel Pipe Manufacturing Co., Ltd
Shanghai Baochen Oil Pipeline Materials Company Limited
Shanghai Baodi Petroleum Pipe Development Co., Ltd
Shanghai Baofu Steel Pipe Co., Ltd
Shanghai Baoshun Steel Tube Co., Ltd
Shanghai Baoyan Special Steel Pipe Co., Ltd
Shanghai Baoyi Industrial Company
Shanghai Fanzhenglong Steel Tube Co., Ltd
Shanghai Hilong Drill Pipe Co., Ltd
Shanghai Hongshun Tube Manufacturing Co., Ltd
Shanghai Kangxin Oil Pipe Manufacturing Co., Ltd
Shanghai Metals & Minerals Import & Export Corporation
Shanghai Mingsheng Industrial Co., Ltd
Shanghai STARSE Petroleum Equipment Co., Ltd
Shanghai Tianhe Oil Engineering Co., Ltd
Shanghai W.M Threading Co., Ltd
Shanghai Yuanxin Tube Co., Ltd
Shanghai Yueyuechao Manufacture Tube Co., Ltd
Shanghai Yuezhou Steel Co., Ltd
Shanghai Zhongyou TIPO Steel Pipe Co., Ltd
Shanxi Dehui Seamless Steel Pipe Co., Ltd
Shanxi Guolian Pipe Industry Group Co., Ltd
Shanxi Hongli Steel Tube Share Company Limited
Shanxi Taigang Stainless Steel Tubes & Pipes Co., Ltd
Shanxi Yida Petroleum Manufacture Co., Ltd
Shanxi Yuci Guolian Steel Pipe Co., Ltd
Shelfoil Petroleum Equipment & Services Co., Ltd
Shengli Fanland Petroleum Equipment Co., Ltd
Shengli Oil Field Shengli Power Machinery Group Co., Ltd
Shengli General Engineering (The Thermal Recovery Equipment Manufactory of Shengli General Engineering)
Shengli Oil Field Freet Petroleum Steel Pipe Co., Ltd
Shengli Oil Field Highland Petroleum Equipment Co., Ltd
Shengli Oil Field TianFeng Science, Industry & Trade Steel Structure Co., Ltd
Shengli Oil Field Whuhua Industry Development Co., Ltd
Shengli Oilfield Shengji Petroleum Equipment Co., Ltd
Shengli Petroleum Administration General Machinery Plant
Shengli Petroleum Equipment Co., Ltd
Shenyang Dongming Seamless Steel Tube Co., Ltd
Shenyang Special Type Seamless Steel Tube Co., Ltd
Shenzhen Renjunfeng Enterprise Co., Ltd
Shenzhen Weisheng I.T.S. Petroleum Tubular & Equipment Co., Ltd
Siano (Beijing) Steel Co., Ltd
Sichuan ChangCheng Steel Tube Co., Ltd
Sichuan ChenJiWeiYe Steel Pipe Co., Ltd
Sichuan Huagong Petroleum Steel Pipe Co., Ltd
Sichuan Jingshi Engineering Technology Co., Ltd
Songyuan Daduo Oilfield Accessory Industry Co., Ltd
Songyuan Seamless Oil Pipe Co., Ltd
SPAT Steel International (H.K.) Limited
Steel Pipe Plant of Wisco Wuhan Jiangbei Iron and Steel Co., Ltd
Steel Pipe Works of North China Petroleum
Steelforce Far East Ltd
Stiletto (HK) Limited
Suns Steel International (Group) Co., Ltd., Shanghai Suns Steel International Trading Ltd., and Shanghai Suns Steel International Ltd
Suzhou Baoxin Seamless Steel Tube
Suzhou Friend Tubing and Casing Pipe Co., Ltd
Suzhou Rainbow Huading Chimney Manufacturing
Suzhou Seamless Steel Tube Works and Suzhou Shuangjin Group Corporation
Suzhou Sino Import and Export Co., Ltd
Tai'an Jiecheng Equipment Installation Co., Ltd
Taicang Xinbaoyi Steel Pipe Manufacture Co., Ltd
Taizhou Chengde Steel Tube Co., Ltd
Taizhou Elite Drilling Pipe Co., Ltd
Taizhou Shuangyang Precision Seamless Steel Tube Co., Ltd
Tangshan Jointer Petroleum Pipe Manufacture Co., Ltd
Tangshan Sanjin Mingsheng Industry Development Co., Ltd
Tangshan Wenfeng Qiyuan Pipe Industry Co., Ltd
The Freet Group
The Machinery Plant, Tuha Oilfield Company
Thermal Recovery Equipment Manufacturer of Shengli Oil Field Freet Petroleum Equipment Co., Ltd
Tian Jin Costrength Petrol China Machinery Co., Ltd
Tianhe Oil Group Hifeng Petroleum Equipment Co., Ltd
Tianjin Amergy (Meineng) Fittings Co., Ltd
Tianjin Bond Oil Steel Pipe Manufacturing Co., Ltd
Tianjin Boyu Steel Pipe Co., Ltd
Tianjin City Gang Xin Seamless Pipe Industry Company
Tianjin City Jinghai County Baolai Industrial and Trade Co
Tianjin City Juncheng Seamless Tube Company Limited
Tianjin City Mingren Metallic Products Co., Ltd
Tianjin City Tian Yi Seamless Steel Tube Company Limited
Tianjin Coupling Heat Treatment Company Limited
Tianjin Debang Petroleum Pipe Manufacturing Co., Ltd
Tianjin DeHua Petroleum Equipment Manufacturing Company Limited
Tianjin Delisi Steel Tube Products Co., Ltd
Tianjin Denuo Petroleum tube Co., Ltd
Tianjin Evergrand Oil Pipes Co., Ltd
Tianjin Feng Yi Da General Machinery Company Limited
Tian-Jin Holly land Pipe Co., Ltd
Tianjin Hong Gang Yuan Oil Equipment Manufacturing Co., Ltd
Tianjin Hua Xin Premium Connections Pipe Co., Ltd
Tianjin Huilitong Steel Tube Co., Ltd
Tianjin Jinggong Petroleum Pipe Fittings Co., Ltd
Tinajin Jingtong Seamless Steel Pipe Co., Ltd
Tianjin Jinyingda Plastic Product Co., Ltd
Tianjin Jinyuan Machinery Manufacture Co., Ltd
Tianjin Lida Steel Pipe Group Co., Ltd
Tianjin Lifengyuanda Steel Group Co., Ltd
Tianjin Liqiang Steel Pipe Co
Tianjin Master Seamless Steel Pipe Co., Ltd
Tianjin Minghai Petroleum Tubular Co., Ltd
Tianjin Opka Oil Pipe Co., Ltd
Tianjin Pipe Group Corporation
Tianjin Pipe Industry Development Company
Tianjin Pipe International Economic & Trading Corp
Tianjin Rainbox Steel Pipe Product Corporation
Tianjin Ring-Top Petroleum Manufacture Co., Ltd
Tianjin Seamless Steel Pipe Plant
Tianjin SERI Machinery Equipment Corporation Limited
Tianjin Shengcaiyuan Steel Trading Co., Ltd
Tianjin Shenzhoutong Steel Pipe Co. Ltd
Tianjin Shuangjie Pipe Manufacturing Co., Ltd
Tianjin Tiangang Special Petroleum Pipe Manufacturer Co., Ltd
Tianjin Tiansheng Petroleum Pipe Manufacturing Co., Ltd
Tianjin Tianye Seamless Steel Pipe Plant Ltd
Tianjin Top Connect Manufacturing Co., Ltd
Tianjin TPCO & TISCO Welding Pipe Corporation
Tianjin Tubular Goods Machining Co., Ltd
Tianjin United Steel Pipe Co (UNISTEEL)
Tianjin Walt Pipe Co., Ltd
Tianjin Xingyuda Steel Pipe Co., Ltd
Tianjin Zhongshun Industry Trade Co., Ltd
TianJin ZhongShun Petroleum Steel Pipe Co., Ltd
Tianjing Boyu Steel Tube Co., Ltd
Tieling Yida Petroleum Machinery Manufacture Co., Ltd
TLD International
Tonghua Iron & Steel Group Panshi Seamless Steel Tube Company Limited
TPCO Yuantong Pipe and Tube Corporation Limited
Tuha Petroleum Machinery
UNI Tube Ltd
United Offshore Construction Co. Ltd CONHW, Zhanjiang
Uno-Steel (Jiangyin) Drilling Products Manufacturing Limited
Weifang East Pipe Industry Technical Co., Ltd
Weifang Weierds Steel Pipe Co., Ltd
Westcan Oilfield Supply Ltd
WSP Holding Limited
Wuhan Seamless Oil Steel Tube Co., Ltd
Wuhan Wugang Group Hanyang Steel Factory
Wuxi Baoda Petroleum Special Pipe Manufacture Co., Ltd
Wuxi City DongQun Steel Tube Co
Wuxi City Jianhong Metal Products Co., Ltd
Wuxi DeRui Seamless Steel Pipe Co., Ltd
Wuxi Dexin Steel Pipe Co., Ltd
Wuxi Dingyuan Precision Cold-Drawn Steel Pipe Co
Wuxi Eastsun Petroleum Tubular Manufacturing Co., Ltd
Wuxi Endlesss Petro Geo-Equipment Co., Ltd
Wuxi Erquan Special Steel
Wuxi Fanyong Liquid Presses Tube Company Limited
Wuxi Fastube Dingyuan Precision Steel Pipe Co., Ltd
Wuxi Fastube Industry Co
Wuxi Free Petroleum Tubulars Manufacture Co., Ltd
Wuxi Gedemei Oil Machinery Equipment Manufacture Co., Ltd
Wuxi Horizon Petroleum Special Pipe Manufacture Company Limited
Wuxi Huaxin Petroleum Machine Co., Ltd
Wuxi Huayou Special Steel Co., Ltd
Wuxi Huazin Petroleum Machine Company Limited
Wuxi Hui Long Wufeng Steel Tube Limited Company
Wuxi Jiangnan High Precision Pipe Co., Ltd
Wuxi Jinding Oil Pipe Fittings Co., Ltd
Wuxi OuLong Special Steel Pipe Co., Ltd
Wuxi Precese Special Steel Co., Ltd
Wuxi Ruiyuan Special Steel Pipe Company Limited
Wuxi Runfeng Special Pipe Co., Ltd
Wuxi Seamless Oil Pipe Co., Ltd
Wuxi SP Steel Tube Manufacturing Co. Ltd
Wuxi Special Steel Material Co., Ltd
Wuxi Sunshine Textile Science and Technology Co., Ltd
Wuxi Xijin Petroleum Equipment Fittings Manufacturing Co. Ltd
Wuxi Xingya Seamless Steel Tube
Wuxi Zhen Dong Steel Pipe Works
Wuxi Zhenda Special Steel Tube Manufacturing Co., Ltd. and Wu Xi Zhen Da Special Steel Tube Manufacturing Co., Ltd
Xi'an Hangwei Petrochemical Equipment Co., Ltd
Xi'an Changqing Tianhe Petroleum Machinery Co., Ltd
Xigang Seamless Steel Tube Co., Ltd
XiNing Special Steel Co., Ltd
Xinjiang Petro Administration Bureau Machinery Manufacture General Company
Xinjiang Ster Petroleum Tubes and Pipes Manufacturing Co., Ltd
Xinjiang Younaite Petroleum Steel Tube Co., Ltd
Xinxiang Central Plain Petroleum and Chemical Machine Manufacturing Co., Ltd
Xinxing Ductile Iron Pipes Co., Ltd
Xinyuantai Steel Pipe Group Co., Ltd
Xuzhou E&R Petroleum Equipment Co., Ltd
Xuzhou Guanghuan Steel Tube (Group) Co., Ltd
Xuzhou Guanghuan Steel Tube Co., Ltd
Xuzhou Oilfield Equipment Co., Ltd
Xuzhou Taifeng Oilwell Products Co., Ltd
Yan'an JiaSheng Petroleum Machinery Co., Ltd
Yan'an Shoushan Mechanical and Production Engineering Technology Co., Ltd
Yancheng Steel Tube Co., Ltd
Yancheng Teda Special Pipe Co., Ltd
Yangxin Universal Electromechanical Equipment Co., Ltd
Yangzhou BaoRuiDe Petroleum Machinery Co., Ltd
Yangzhou Chengde Steel Pipe Co., Ltd
Yangzhou Chicheng Petroleum Machinery Co., Ltd.'
Yangzhou Lontrin Steel Tube Co., Ltd
Yangzhou Sinopetro Superbskill Machine Co., Ltd
Yangtai KIYOFO Seamless Steel Pipe Company Limited
Yantai Steel Pipe Co., Ltd. of Laiwu Iron & Steel Group
Yantai Yuanhua Steel Tubes Company Limited
Yieh Corporation
YingKou OuYang Metal Manufacturing Co., Ltd
Zhangjiagang HengFeng Oil Pipe & Part Co., Ltd
Zhangjiagang ZhongYuan Pipe-Making Co
Zhangjiakou Haite Steel Pipe Co., Ltd
Zhangzhou Stronghold Steel Works Co., Ltd
Zhejiang Guobang Steel Co., Ltd
Zhejiang Jianli Co., Ltd
Zhejiang JiuLi Hi-Tech Metals Co., Ltd
Zhejiang Kingland Pipe Industry Co., Ltd
Zhejiang Minghe Steel Pipe Co., Ltd
Zhejiang Seamless Steel Tube Co., Ltd. and Zhejiang Gross Seamless Steel Tube Co. Ltd
Zhongshi Special Steel Tubes Co., Ltd
Zhongyuan Pipeline Manufacturing Co., Ltd
Zibo Hongyang Petroleum Equipment Co., Ltd
Zibo Pipe Manufacturing
ZYZJ Petroleum Equipment Co., Ltd
Suspension Agreements
RUSSIA: Certain Cut-To-Length Carbon Steel Plate, A-821-808 | 1/1/12-12/31/12

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: February 22, 2013.
Christian Marsh,
Deputy Assistant Secretary for Antidumping and Countervailing Duty Operations.

[FR Doc. 2013-04681 Filed 2-27-13; 8:45 am]

BILLING CODE 3510-DS-P